DEPARTMENT OF COMMERCE

International Trade Administration

(A-549-813)

Extension of Time Limits for Preliminary Results and Final Results of the Full Sunset Review of the Antidumping Duty Order on Canned Pineapple Fruit from Thailand

AGENCY: Import Administration, International Trade Administration, U.S. Department of Commerce.

EFFECTIVE DATE: July 25, 2006.

FOR FURTHER INFORMATION CONTACT: Zev Primor, Office 4, Import Administration, International Trade Administration, U.S. Department of Commerce, 14th Street & Constitution Avenue, NW, Washington, DC, 20230; telephone: 202-482-4114.

SUPPLEMENTARY INFORMATION:

Background

The Department of Commerce (“the Department”) initiated the second sunset review of canned pineapple fruit (“CPF”) from Thailand on April 3, 2006. See Initiation of Five-year “Sunset” Reviews, 71 FR 16551 (April 3, 2006). On April 17, 2006, we received notification of intent to participate from the domestic interested party, Maui Pineapple Co., Ltd., (“Maui”) in accordance with 19 CFR 351.218(d)(3). On May 3, 2006, Maui and the respondent interested parties filed substantive comments with the Department.¹

¹ The respondent interested parties are: Pineapple Processors Group; the Thai Food Processors Association; Thai Pineapple Canning Industry Corp. Ltd.; Malee Sampran Public Co., Ltd.; The Siam Agro Industry Pineapples and Others Public Co., Ltd.; Great Oriental Food Products Co. Ltd.; Thai Pineapple Products and Other Fruits Co., Ltd.; The Tipco Foods (Thailand) PCL; Pranburi Hotei Co., Ltd.; and Siam Fruit Canning (1988) Co., Ltd.

On May 22, 2006, the Department issued a preliminary adequacy determination stating that the respondents in the ongoing sunset review did not meet the adequacy requirements. See Memorandum from Zev Primor to Tom Futtner, “Adequacy Determination in Antidumping Duty Sunset Review of Canned Pineapple from Thailand” (May 22, 2006). On May 30, 2006, and June 8, 2006, we received timely comments pertaining to our adequacy calculation methodology from the respondent interested parties and Maui, respectively. Upon review of the parties' comments, we modified our calculation methodology and determined that the respondent interested parties meet the adequacy requirements. See Memorandum from Zev Primor to Tom Futtner, “Correction to the Adequacy Calculation in the Antidumping Duty Sunset Review of Canned Pineapple Fruit from Thailand” (July 12, 2006). Consequently, the Department determined to conduct a full sunset review of the antidumping duty order on CPF from Thailand as provided at section 751(c)(5)(A) of the Tariff Act of 1930, as amended (“the Act”), and at 19 CFR 351.218(e)(2)(i) because: (1) the parties' substantive responses met the requirements of 19 CFR 351.218(d)(3), and (2) both the information on the record and our review of the proprietary Customs and Border Protection (“CBP”) data indicated that the respondent interested parties account for more than 50 percent of the exports to the United States, the level that the Department normally considers to be an adequate response to the notice of initiation by respondent interested parties under 19 CFR 351.218(e)(1)(ii)(A). Id.

Extension of Time Limits

With respect to the preliminary results of a sunset review, the Department's regulations, at 19 CFR 351.218(f)(1), provide that the Department normally will issue its preliminary results in a full sunset review not later than 110 days after the date of publication of initiation in the Federal Register. However, in accordance with section 751(c)(5)(B) of the Act and 19 CFR 351.218(f)(3)(ii), the Department may extend the period of time for making its final determination by not more than 90 days, if it determines that the review is extraordinarily complicated. Because some of the issues are complex, the Department has determined, pursuant to section 751(c)(5)(C)(ii) of the Act, that the sunset review is extraordinarily complicated and will require additional time for the Department to complete its analysis. Due to the complex nature of the CPB and shipment data, revocation of a number of companies during the period of review, and the change from the expedited to a full sunset review, the Department will require additional time to conduct the analysis necessary for the preliminary results.

The Department's preliminary results of the full sunset review of the antidumping duty order on CPF from Thailand are currently scheduled for July 22, 2006, and the final results are currently scheduled for November 29, 2006. As a result of our decision to extend the deadline for the preliminary results of review, the Department intends to issue the preliminary results of the full sunset review of the antidumping duty order on CPF from Thailand no later than October 20, 2006, and the final results of the review no later than February 27, 2007. These dates are 90 days from the originally scheduled dates of the preliminary and final results of this sunset review.

This notice is issued in accordance with sections 751(c)(5)(B) and (C)(ii) of the Act.

Stephen J. Claeys,
Deputy Assistant Secretary for Import Administration.

[FR Doc. E6-11839 Filed 7-24-06; 8:45 am]

BILLING CODE 3510-DS-S